DEPARTMENT OF TRANSPORTATION

Federal Aviation Administration

14 CFR Part 39

[Docket No. FAA-2009-1180; Directorate Identifier 2009-CE-060-AD; Amendment 39-16220; AD 2010-05-10]

RIN 2120-AA64

Airworthiness Directives; Hawker Beechcraft Corporation (Type Certificate Previously Held by Raytheon Aircraft Company) Models B300 and B300C Airplanes

AGENCY: Federal Aviation Administration (FAA), Department of Transportation (DOT).

ACTION: Final rule.

SUMMARY: We are adopting a new airworthiness directive (AD) for certain Hawker Beechcraft Corporation (type certificate previously held by Raytheon Aircraft Company) Models B300 and B300C airplanes. This AD requires you to inspect the terminal board on the circuit card rack assembly to determine if the correct bus bar is installed and replace if necessary. This AD also requires you to do an operational check of the left and right pitot heat annunciators for proper operation and take corrective action as necessary. This AD results from reports of the left and right pitot heat annunciators not illuminating for an inoperative pitot heat condition. We are issuing this AD to detect and correct installation of an incorrect bus bar, which could result in failure of the pitot heat annunciators to illuminate. This failure could lead to the pilot being unaware that moisture has frozen on the pitot tube(s) and cause erroneous flight instrument indication.

DATES: This AD becomes effective on April 8, 2010.

On April 8, 2010, the Director of the Federal Register approved the incorporation by reference of certain publications listed in this AD.

ADDRESSES: For service information identified in this AD, contact Hawker Beechcraft Corporation, Attn: Airline Technical Support, P.O. Box 85, Wichita, Kansas 67201; telephone: (800) 429-5372; fax: (316) 676-8745; Internet: http://www.hawkerbeechcraft.com.

To view the AD docket, go to U.S. Department of Transportation, Docket Operations, M-30, West Building Ground Floor, Room W12-140, 1200 New Jersey Avenue, SE., Washington, DC 20590, or on the Internet at http://www.regulations.gov. The docket number is FAA-2009-1180; Directorate Identifier 2009-CE-060-AD.

FOR FURTHER INFORMATION CONTACT: Kevin Schwemmer, Aerospace Engineer, FAA, Wichita Aircraft Certification Office (ACO), 1801 Airport Road, Room 100, Wichita, Kansas 67209, telephone: (316) 946-4174, fax: (316) 946-4107.

SUPPLEMENTARY INFORMATION:

Discussion

On December 8, 2009, we issued a proposal to amend part 39 of the Federal Aviation Regulations (14 CFR part 39) to include an AD that would apply to certain Hawker Beechcraft Corporation Models B300 and B300C airplanes. This proposal was published in the Federal Register as a notice of proposed rulemaking (NPRM) on December 17, 2009 (74 FR 66924). The NPRM proposed to require inspecting the terminal board on the circuit card rack assembly to determine if the correct bus bar is installed and replacing if necessary. The NPRM also proposed to require doing an operational check of the left and right pitot heat annunciators for proper operation and taking corrective action as necessary.

Comments

We provided the public the opportunity to participate in developing this AD. We received no comments on the proposal or on the determination of the cost to the public.

Conclusion

We have carefully reviewed the available data and determined that air safety and the public interest require adopting the AD as proposed except for minor editorial corrections. We have determined that these minor corrections:

• Are consistent with the intent that was proposed in the NPRM for correcting the unsafe condition; and

• Do not add any additional burden upon the public than was already proposed in the NPRM.

Costs of Compliance

We estimate that this AD will affect 131 airplanes in the U.S. registry.

We estimate the following costs to do the operational check:

Labor cost | Parts cost | Total cost per airplane | Total cost on U.S. operators
1 work-hour × $85 per hour = $85 | Not applicable | $85 | $11,135

We estimate the following costs to do any necessary placard fabrication and installation that will be required based on the results of the operational check. We have no way of determining the number of airplanes that may need the placard:

Labor cost | Parts cost | Total cost per airplane
.5 work-hour × $85 per hour = $42.50 | Not applicable | $42.50

We estimate the following costs to do the inspection of the terminal board:

Labor cost | Parts cost | Total cost per airplane | Total cost on U.S. operators
1 work-hour × $85 per hour = $85 | Not applicable | $85 | $11,135

We estimate the following costs to do any necessary replacements that will be required based on the results of the inspection of the terminal board. We have no way of determining the number of airplanes that may need to replace the bus bar:

Labor cost | Parts cost | Total cost per airplane
3 work-hours × $85 per hour = $255 | $50 | $305

Authority for This Rulemaking

Title 49 of the United States Code specifies the FAA's authority to issue rules on aviation safety. Subtitle I, Section 106 describes the authority of the FAA Administrator. Subtitle VII, Aviation Programs, describes in more detail the scope of the agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

We have determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD (and other information as included in the Regulatory Evaluation) and placed it in the AD Docket. You may get a copy of this summary by sending a request to us at the address listed under ADDRESSES. Include “Docket No. FAA-2009-1180; Directorate Identifier 2009-CE-060-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding the following new AD:

2010-05-10 Hawker Beechcraft Corporation (Type Certificate Previously Held by Raytheon Aircraft Company): Amendment 39-16220; Docket No. FAA-2009-1180; Directorate Identifier 2009-CE-060-AD.

Effective Date

(a) This AD becomes effective on April 8, 2010.

Affected ADs

(b) None.

Applicability

(c) This AD applies to the following airplane models and serial numbers that are certificated in any category:

Models | Serial Nos.
B300 | FL-381, FL-383 through FL-530, FL-532, FL-534 through FL-596, FL-598, and FL-600.
B300C | FM-12 through FM-25.

Subject

(d) Air Transport Association of America (ATA) Code 31: Instruments.

Unsafe Condition

(e) This AD results from reports of the left and right pitot heat annunciators not illuminating for an inoperative pitot heat condition. We are issuing this AD to detect and correct the installation of an incorrect bus bar, which could result in failure of the pitot heat annunciators to illuminate. This failure could lead to moisture freezing on the pitot tube(s) and cause erroneous flight instrument indication.

Compliance

(f) To address this problem, you must do the following, unless already done:

Actions | Compliance | Procedures
(1) Do an operational check of the left and right pitot heat annunciators for illumination | Within the next 15 hours time-in-service (TIS) after April 8, 2010 (the effective date of this AD) or within the next 30 days after April 8, 2010 (the effective date of this AD), whichever occurs first | Follow Hawker Beechcraft Mandatory Service Bulletin SB 31-3948, Issued: April 2009.
(2) If the left and/or right pitot heat annunciators do not illuminate, install a placard on the instrument panel within the pilot's clear view specifying the pitot heat annunciator(s) as inoperative | Before further flight after the operational check required in paragraph (f)(1) of this AD | Follow Hawker Beechcraft Mandatory Service Bulletin SB 31-3948, Issued: April 2009.
(3) Inspect the terminal board on the circuit card rack assembly to determine if a five-hole bus bar is installed | Within the next 50 hours TIS after April 8, 2010 (the effective date of this AD) or within the next 3 months after April 8, 2010 (the effective date of this AD), whichever occurs first | Follow Hawker Beechcraft Mandatory Service Bulletin SB 31-3948, Issued: April 2009.
(4) If a five-hole bus bar is found installed during the inspection required in paragraph (f)(3) of this AD, perform an operational check. If the operational check detects anomalies, contact the manufacturer specified in paragraph (i)(2) of this AD to obtain an FAA-approved repair scheme and incorporate the repair scheme | Before further flight after the inspection required in paragraph (f)(3) of this AD | Follow Hawker Beechcraft Mandatory Service Bulletin SB 31-3948, Issued: April 2009.
(5) If a four-hole bus bar is found installed during the inspection required in paragraph (f)(3) of this AD, replace it with a five-hole bus bar and perform an operational check. If the operational check detects anomalies, contact the manufacturer specified in paragraph (i)(2) of this AD to obtain an FAA-approved repair scheme and incorporate the repair scheme | Before further flight after the inspection required in paragraph (f)(3) of this AD | Follow Hawker Beechcraft Mandatory Service Bulletin SB 31-3948, Issued: April 2009.
(6) If proper operation of the left and right pitot heat annunciators is verified in paragraphs (f)(4) and (f)(5) of this AD, remove the placard that was installed in paragraph (f)(2) of this AD | Before further flight after doing the operational check required in paragraphs (f)(4) and (f)(5) of this AD | Follow Hawker Beechcraft Mandatory Service Bulletin SB 31-3948, Issued: April 2009.

Note: The operational check required in this AD is different from the pilot's pre-flight check. An FAA-approved licensed mechanic authorized to do maintenance is required to do the operational check.

(g) The inspection action of paragraph (f)(3) of this AD and the follow-on actions of paragraphs (f)(4) and (f)(5) of this AD may be done instead of the operational check and the placard requirements of paragraphs (f)(1) and (f)(2) of this AD provided the inspection is done within the next 15 hours TIS after April 8, 2010 (the effective date of this AD).

Alternative Methods of Compliance (AMOCs)

(h) The Manager, Wichita Aircraft Certification Office (ACO), FAA, has the authority to approve AMOCs for this AD, if requested using the procedures found in 14 CFR 39.19. Send information to ATTN: Kevin Schwemmer, Aerospace Engineer, ACE-118W, Wichita ACO, 1801 Airport Road, Room 100, Wichita, Kansas 67209, telephone: (316) 946-4174, fax: (316) 946-4107. Before using any approved AMOC on any airplane to which the AMOC applies, notify your appropriate principal inspector (PI) in the FAA Flight Standards District Office (FSDO), or lacking a PI, your local FSDO.

Material Incorporated by Reference

(i) You must use Hawker Beechcraft Mandatory Service Bulletin SB 31-3948, Issued: April 2009, to do the actions required by this AD, unless the AD specifies otherwise.

(1) The Director of the Federal Register approved the incorporation by reference of this service information under 5 U.S.C. 552(a) and 1 CFR part 51.

(2) For service information identified in this AD, contact Hawker Beechcraft, Attn: Airline Technical Support, P.O. Box 85, Wichita, Kansas 67201; telephone: (800) 429-5372; fax: (316) 676-8745; Internet: http://www.hawkerbeechcraft.com.

(3) You may review copies of the service information incorporated by reference for this AD at the FAA, Central Region, Office of the Regional Counsel, 901 Locust, Kansas City, Missouri 64106. For information on the availability of this material at the Central Region, call (816) 329-3768.

(4) You may also review copies of the service information incorporated by reference for this AD at the National Archives and Records Administration (NARA). For information on the availability of this material at NARA, call (202) 741-6030, or go to: http://www.archives.gov/federal_register/code_of_federal_regulations/ibr_locations.html.

Issued in Kansas City, Missouri, on February 24, 2010.
James E. Jackson,
Acting Manager, Small Airplane Directorate, Aircraft Certification Service.

[FR Doc. 2010-4436 Filed 3-3-10; 8:45 am]

BILLING CODE 4910-13-P